SURFACE TRANSPORTATION BOARD

[Docket No. EP 774 (Sub-No. 1)]

Notice of Passenger Rail Advisory Committee Vacancy

AGENCY: Surface Transportation Board.

ACTION: Notice of vacancy on the Passenger Railroad Advisory Committee (PRAC) and solicitation of nominations.

SUMMARY: The Surface Transportation Board (Board) hereby gives notice of a vacancy on the PRAC for a representative from a state that provides funding for intercity passenger rail. The Board is soliciting nominations from the public for candidates to fill this vacancy.

DATES: Nominations are due by February 27, 2025.

ADDRESSES: Nominations may be submitted either via the Board's e-filing format or in paper format. Any person using e-filing should attach a document and otherwise comply with the instructions at the E-FILING link on the Board's website, at www.stb.gov. Any person submitting a filing in paper format should send the original and 10 copies to: Surface Transportation Board, Attn: Docket No. EP 774 (Sub-No. 1), 395 E Street SW, Washington, DC 20423-0001.

FOR FURTHER INFORMATION CONTACT: Brian O'Boyle at 202-245-0364. If you require an accommodation under the Americans with Disabilities Act, please call (202) 245-0245.

SUPPLEMENTARY INFORMATION: The Board established the PRAC in 2023 to provide advice and recommendations to the Board on issues relating to passenger rail service. See Establishment of the Passenger Rail Advisory Comm., EP 774 (STB served Nov. 13, 2023). Matters on which the PRAC advise the Board include improving efficiency on passenger rail routes; reducing disputes between passenger rail carriers and freight rail hosts regarding the use of freight rail carrier-owned facilities and infrastructure for passenger service, including passenger on-time performance issues; and improving regulatory processes related to intercity passenger rail to the benefit of the public, the communities served by passenger rail, and the environment. The PRAC operates under the Federal Advisory Committee Act (5 U.S.C. chapter 10).

When all vacancies are filled, the PRAC consists of at least 18 voting members ¹ who comprise a balanced representation of individuals knowledgeable regarding passenger rail transportation, freight rail transportation, commuter rail operations, and transportation public policy. Members are selected by the Chair of the Board with the concurrence of a majority of the Board. The Chair of the Board may invite representatives from the U.S. Department of Transportation to serve on the PRAC in advisory capacities as ex officio (non-voting) members. The members of the Board also serve as ex officio members of the Committee. The PRAC meets at least twice a year, and meetings are open to the public, consistent with the Government in the Sunshine Act, Public Law 94-409 (1976).

¹ There are currently 20 voting members serving on the PRAC, plus one vacancy.

A vacancy currently exists on the PRAC for a representative from a state that provides funding for intercity passenger rail. The Board is therefore soliciting nominations from the public for candidates to fill this vacancy. Pursuant to the PRAC charter, this representative cannot be from the same state as any of the representatives of the commuter rail operators, or the representative from a state in which the intercity passenger rail stations are served only by long-distance trains.² See PRAC Charter art. 12.a.ii.4. The new member will serve the remainder of the representative's current 3-year term, which ends in March 2027. Members may serve an additional term with approval from the Chair of the Board, without needing to be renominated for that additional term.³ Members of the PRAC are appointed to serve in a representative capacity.

² The current commuter rail representatives are from Illinois and California and the current representative from a state in which the intercity passenger rail stations are served only by long-distance trains is from Colorado.

³ Under the PRAC Charter, any member of the PRAC who has served for two consecutive terms will be required to be renominated for membership and appointed by the Chair of the Board should they wish to serve for additional terms. If reappointed, they may serve two additional terms before being required to be renominated.

According to revised guidance issued by the Office of Management and Budget, it is permissible for federally registered lobbyists to serve on advisory committees, such as the PRAC, as long as they do so in a representative capacity, rather than an individual capacity. See Revised Guidance on Appointment of Lobbyists to Fed. Advisory Comms., Bds., & Comm'ns, 79 FR 47482 (Aug. 13, 2014). No honoraria, salaries, travel or per diem are available to members of the PRAC; however, reimbursement for travel expenses may be sought from the Board in cases of hardship.

Nominations for candidates to fill the current vacancy should be submitted in letter form and should include: (1) the name, position, and business contact information (including email address and phone number) of the candidate; (2) a summary of the candidate's experience and qualifications for the position; (3) a representation that the candidate is willing to serve as a member of the PRAC; and, (4) a statement that the candidate agrees to serve in a representative capacity. Candidates may nominate themselves. Nominations for candidates for the current vacancy on the PRAC should be filed with the Board by February 27, 2025. Please note that submissions will be posted publicly on the Board's website under Docket No. EP 774 (Sub-No. 1).

Authority: 49 U.S.C. 1321; 49 U.S.C. 24101.

Decided: January 28, 2025.
By the Board, Mai T. Dinh, Director, Office of Proceedings.
Aretha Laws-Byrum,
Clearance Clerk.

[FR Doc. 2025-02049 Filed 1-30-25; 8:45 am]

BILLING CODE 4915-01-P